ENVIRONMENTAL PROTECTION AGENCY

[FRL-6536-4]

Agency Information Collection Activities: Proposed Collection; Comment Request; Community Water System Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Information Collection Request for the Community Water System Survey, EPA ICR 1946.01. Before submitting the ICR to OMB for review and approval, EPA is soliciting comments on specific aspects of the proposed information collection as described below.

DATES: Comments must be submitted on or before April 17, 2000.

ADDRESSES: Public comments shall be submitted to: Brian Rourke (Mail Code 4607), Office of Ground Water and Drinking Water, U.S. Environmental Protection Agency, 401 M St. SW., Washington, DC 20460. Public comments may also be sent electronically to: rourke.brian@epamail.epa.gov. Interested persons may obtain a copy of the draft ICR without charge by contacting the individual named below.

FOR FURTHER INFORMATION CONTACT: Brian Rourke, Telephone (202) 260-7785, Facsimile Number (202) 260-3762, E-mail: rourke.brian@epamail.epa.gov.

SUPPLEMENTARY INFORMATION:

Affected entities: Entities potentially affected by this action are Community Water Systems. A Community Water System is one which supplies drinking water to 25 or more year-round residents or has at least 15 service connections.

Title: Community Water System Survey (EPA ICR No. 1946.01).

Abstract: Last conducted in 1995, the Community Water System Survey is usually conducted every five years to gather information on the operating and financial characteristics of a nationally representative sample of community water systems. The Agency conducts the survey to get a clear picture of current conditions in these water systems in order to calculate the impact of any proposed regulations with which these systems would be expected to comply. Specifically, the Agency uses the data provided by this survey to meet its Regulatory Impact Analysis (RIA) obligations under Executive Order 12866 and its obligation to assess and mitigate regulatory impacts on small entities under the Regulatory Flexibility Act and the Small Business Regulatory Enforcement Fairness Act. As effective analyses must begin with an assessment of the baseline situation, it is essential that the Agency have access to the current financial and operating conditions at water systems. Cost impacts of proposed regulations can only be estimated when something is known about the baseline costs of those bearing the burden.

But financial data is only part of the picture. The Agency must also gather information on the operating characteristics of the treatment systems, storage facilities and distribution systems. This data is critical in estimating the need for new facilities as a consequence of any new Agency regulations. For example, water systems that have already installed treatment processes to treat one sort of contaminant might well not have to install any additional treatment to comply with regulations effecting a similar type of contaminant or one susceptible to the same type of treatment. Thus, all of the Agency's estimates of regulatory impacts can be no more accurate than the baseline information gathered through this survey. Because of the magnitude of potential cost impacts of the regulations, even small changes in water system characteristics can produce significant differences in impacts. Hence, it is critical that the Agency use the most up-to-date information available.

Also, under section 1412(b) of the 1996 Safe Drinking Water Act, the Agency must consider the affordability of the treatment technologies that will meet the proposed regulatory requirements. To determine affordability, the Agency must consider both the new, incremental costs that would result from any proposed regulation together with the costs already borne by the water system. Clearly, this means that the Agency must have an accurate picture of current costs.

This is a one-time collection effort, and responses to this ICR are voluntary. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: It is estimated that the burden on small water systems (those serving under 3,300 people) will be one half-hour per water system, or 279 hours for the 557 small system representatives expected to respond to the survey questionnaire. At an hourly rate of $14.50, the total cost to small systems is expected to be $4,038.25. It is also estimated that the survey will sample 609 medium to large size systems serving between 3,301 and 500,000 people, requiring one hour per water system, or 609 hours for all systems in this size category. At an hourly rate of $28.00, the total cost to these systems is expected to be $17,052. The total costs to questionnaire respondents is expected to be $21,090.25. The total cost to the government, including the cost of government contractors administering the questionnaire, is estimated to be $2,170,246.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 9, 2000.
Cynthia Dougherty,
Director, Office of Ground Water and Drinking Water.

[FR Doc. 00-3604 Filed 2-14-00; 8:45 am]

BILLING CODE 6560-50-P